ENVIRONMENTAL PROTECTION AGENCY

40 CFR Part 300

[EPA-HQ-SFUND-1983-0002; FRL-9914-01-Region 1]

National Oil and Hazardous Substances Pollution Contingency Plan; National Priorities List: Deletion of the O'Connor Superfund Site

AGENCY: Environmental Protection Agency.

ACTION: Final rule.

SUMMARY: The Environmental Protection Agency (EPA) Region 1 announces the deletion of the O'Connor Superfund Site (Site) located in Augusta, Maine, from the National Priorities List (NPL). The NPL, promulgated pursuant to section 105 of the Comprehensive Environmental Response, Compensation, and Liability Act (CERCLA) of 1980, as amended, is an appendix of the National Oil and Hazardous Substances Pollution Contingency Plan (NCP). The EPA and the State of Maine, through the Maine Department of Environmental Protection, have determined that all appropriate response actions under CERCLA, other than operation, maintenance, and five-year reviews, have been completed. However, this deletion does not preclude future actions under Superfund.

DATES: This action is effective July 22, 2014.

ADDRESSES: EPA has established a docket for this action under Docket Identification No. EPA-HQ-SFUND-1983-0002. All documents in the docket are listed on the http://www.regulations.gov Web site. Although listed in the index, some information is not publicly available, i.e., Confidential Business Information or other information whose disclosure is restricted by statute. Certain other material, such as copyrighted material, is not placed on the Internet and is publicly available only in hard copy form. Publicly available docket materials are available either electronically through http://www.regulations.gov or in hard copy at the site information repositories. Locations, contacts, phone numbers and viewing hours are:

EPA Records and Information Center, 5 Post Office Square, First Floor, Boston, MA 02109-3912, Monday-Friday 8:00 a.m.-5:00 p.m., and

Lithgow Public Library, 45 Winthrop St., Augusta, Maine 04330, Mon-Thurs 9:00 a.m.-8 p.m., Friday 9:00 a.m.-5 p.m., Saturday 9:00 a.m.-12:00 p.m.

FOR FURTHER INFORMATION CONTACT: Terrence Connelly, Remedial Project Manager, U.S. Environmental Protection Agency, Region 1, Mailcode OSRR07-1, 5 Post Office Square, Suite 100, Boston, MA 02109-3919, (617) 918-1373, email: connelly.terry@epa.gov.

SUPPLEMENTARY INFORMATION:

The site to be deleted from the NPL is the O'Connor Superfund Site, Augusta, Maine. A Notice of Intent to Delete for this Site was published in the Federal Register on March 12, 2014 (79 FR 13967).

The closing date for comments on the Notice of Intent to Delete was April 11, 2014. Two public comments were received. One comment was critical of the remedy selected in 1989 as modified in 1994 and 2002 and stated that the Site should not be removed from the NPL until it was completely clean. The other comment raised an issue not related to the proposed action of deleting the Site from the NPL.

In questioning the effectiveness of institutional controls to maintain protectiveness and seeking a remedy that concludes with a “completely clean” site, the comment questions the adequacy of the selected remedy. The remedy was selected following public comment periods in 1989, 1994, and 2002 for the Record of Decision, the Explanation of Significant Differences, and the Record of Decision Amendment, respectively. EPA believes that the remedy selected is protective of human health and the environment. The selected remedy has been implemented, and all activities required under the remedy have been completed. Additionally, the activities completed at the O'Connor Superfund Site have satisfied those criteria that EPA has established for deletion of a site from the NPL.

The comment also voiced the desire that the Site be completely clean before being deleted from the NPL. While this is an aspirational goal of the Superfund program, it is not technically feasible to return every site to unlimited use and unrestricted exposure. For example, there are municipal landfills where communities disposed of their waste for decades and many of these landfills are also Superfund sites. The costs for requiring local communities to pay for completely cleaning up these landfills so that they are available for any future use would be in the millions for each landfill. The technology and resources to achieve this goal of returning every site to pristine conditions are simply not available.

The second comment voiced concerns about health issues for herself and others who lived or who continue to live near the O'Connor Site and stating a view that the number of cancers and other health issues suffered by residents nearby the Site concerned her. The comment also expressed dismay that she had not been contacted about the Site when she had lived nearby.

This comment did not address the substance of the proposed deletion nor question whether the remedial goals have been accomplished but speaks of health concerns. EPA completed a Five-Year Review of the Site in 2012 and determined that the remedy as implemented remains protective of human health and the environment. All potential exposure pathways have been controlled through the completed activities and institutional controls. The ongoing monitoring and five-year reviews ensure that EPA is able to confirm the protectiveness of the remedy.

A responsiveness summary was prepared and placed in both the docket, EPA-HQ-SFUND-1983-0002, on www.regulations.gov, and in the local repository listed above.

A Notice of Deletion for this Site was published in the Federal Register on March 12, 2014 (79 FR 13882). The Notice of Deletion summarized the deletion criteria, the deletion procedure, and the basis for deletion of the Site from the NPL.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: July 2, 2014.
H. Curtis Spalding,
Regional Administrator, Region 1.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B to Part 300—[Amended]

2. Table 1 of Appendix B to part 300 is amended by removing “ME”, “O'Connor Co”, “Augusta”.

[FR Doc. 2014-17133 Filed 7-21-14; 8:45 am]

BILLING CODE 6560-50-P